DEPARTMENT OF HEALTH AND HUMAN SERVICES

National Institutes of Health

Proposed Collection; 60-Day Comment Request; Generic Clearance To Conduct Voluntary Customer/Partner Surveys (NLM)

AGENCY: National Institutes of Health, HHS.

ACTION: Notice.

SUMMARY: In compliance with the requirement of the Paperwork Reduction Act of 1995 to provide opportunity for public comment on proposed data collection projects, the National Library of Medicine (NLM) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: David Sharlip, National Library of Medicine, Building 38A, Room B2N12, 8600 Rockville Pike, Bethesda, MD 20894, or call non-toll-free number 301-827-6361 or Email your request to sharlipd@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Generic Clearance to Conduct Voluntary Customer/Partner Surveys (NLM), 0925-0476, Expiration Date 09/30/2018, EXTENSION, National Library of Medicine (NLM), National Institutes of Health (NIH).

Need and Use of Information Collection: In 1994, the NLM was designated a “Federal Reinvention Laboratory” with a major objective of improving its methods of delivering information to the public. At a minimum, necessary elements in improving the delivery of information include: (1) Development of easy-to-use access and delivery mechanisms that promote the public's understanding of health information, drawing on research in lay terminology, graphical and multimedia presentations; (2) assisting those providing health information to the public to make effective use of electronic services through internet connections, training, and other means, with an emphasis on those serving minority groups, low income populations, and seniors; (3) promoting integrations of NLM services with other electronic services covering regional, state, or local health information; and (4) conducting and supporting research, development, and evaluation of the public's health information needs, information seeking behavior and learning styles, information systems that meet the public's needs, and the impact of access to information.

OMB approval is requested for 3 years. There are no costs to respondents other than their time. The total estimated annualized burden hours are 750.

Estimated Annualized Burden Hours
Table A.12-1 Estimates of annual burden hours: Type of collection | Table A.12-1 Estimates of annual burden hours: Type of respondents | Table A.12-1 Estimates of annual burden hours: Number of respondents | Table A.12-1 Estimates of annual burden hours: Annual frequency per response | Table A.12-1 Estimates of annual burden hours: Average time per response (minutes/hour) | Table A.12-1 Estimates of annual burden hours: Total burden hours
Customer Satisfaction Surveys | General Public | 1,000 | 1 | 20/60 | 333
Focus Groups | Health Professionals | 500 | 1 | 15/60 | 125
Usability and Pilot Testing | Librarians | 500 | 1 | 20/60 | 167
Interviews or Small Discussion Groups | Health Educators | 500 | 1 | 15/60 | 125
Total |  | 2,500 | 2,500 |  | 750

Dated: July 3, 2018.
David Sharlip,
Project Clearance Liaison, National Library of Medicine, National Institutes of Health.

[FR Doc. 2018-15490 Filed 7-19-18; 8:45 am]

BILLING CODE 4140-01-P